DEPARTMENT OF THE INTERIOR

National Park Service

Notice of Intent to Repatriate Cultural Items: U.S. Department of the Interior, National Park Service, Lake Roosevelt National Recreation Area, Coulee Dam, WA

AGENCY: National Park Service, Interior.

ACTION: Notice.

Notice is here given in accordance with the Native American Graves Protection and Repatriation Act (NAGPRA), 25 U.S.C. 3005, of the intent to repatriate cultural items that are in the control of the U.S. Department of the Interior, National Park Service, Lake Roosevelt National Recreation Area, Coulee Dam, WA, that meet the definition of “unassociated funerary objects” under 25 U.S.C 3005. They were removed from ten archeological sites within the boundaries of Lake Roosevelt National Recreation Area. Seven of the sites are in Ferry County, WA, and three are in Stevens County, WA.

This notice is published as part of the National Park Service's administrative responsibilities under NAGPRA, 25 U.S.C. 3003 (d)(3). The determinations in this notice are the sole responsibility of the superintendent, Lake Roosevelt National Recreation Area.

On April 9, 1872, land on the east side of the Columbia River in Washington Territory was set aside as the Colville Reservation by Executive Order. On July 2, 1872, that land was restored to the public domain, and land on the west side of the Columbia River was set aside as the Colville Reservation. On July 1, 1892, Congress restored the north half of the Colville Reservation to the public domain, and reduced tribal lands through allotments to individual Indians under the Dawes Act of 1887. The two constituent tribes of the Confederated Tribes of the Colville Reservation that are traditionally associated with the area are the Colville and Lakes Tribes.

Grand Coulee Dam, initiated by the Bureau of Reclamation in the 1930s, was completed in 1941. Some of the lands inundated by the resulting reservoir had been previously reserved by either the Confederated Tribes of the Colville Reservation, Washington or the Spokane Tribe of the Spokane Reservation, Washington. In 1946, a Tri-Party Agreement among the Bureau of Reclamation, the National Park Service and the Office of Indian Affairs was developed to manage the Coulee Dam Recreation Area in three zones: Reclamation Zone, Recreation Zone, and Reservation Zone. The agreement gave the National Park Service control of land in the Recreation Zone for most purposes, including the management of archeological resources. In 1990, a five-party Lake Roosevelt Cooperative Management Agreement was implemented that included the Confederated Tribes of the Colville Reservation, Washington and the Spokane Tribe of the Spokane Reservation, Washington as signatories. The National Park Service retained control of the Recreation Zone. The recreation area became Lake Roosevelt National Recreation Area in 1997.

The unassociated funerary objects were removed from ten archeological sites on land reserved by the Confederated Tribes of the Colville Reservation, Washington until 1946. The sites were affected by the Bureau of Reclamation's operation of Grand Coulee Dam since the early 1940s, and are within the Recreation Zone managed by the National Park Service. In 2005, the Bureau of Reclamation and the National Park Service jointly determined that Lake Roosevelt National Recreation Area has control of the NAGPRA collections and responsibility for compliance with NAGPRA.

From 1967 to 1978, human remains and associated funerary objects were collected by local residents from eroding shorelines along the banks of Lake Roosevelt or excavated by professional archeologists during legally authorized salvage excavations. The human remains and associated funerary objects were stored at Washington State University (WSU) until mid-1967, when they were moved to the Alfred W. Bowers Laboratory of Anthropology at the University of Idaho (UI). Human remains and associated funerary objects acquired after that time were transferred from Lake Roosevelt to the University of Idaho, and became part of the Kettle Falls Archeological Collection. Prior to the passage of NAGPRA on November 16, 1990, some of the human remains were repatriated to the Confederated Tribes of the Colville Reservation, Washington. In 1992, the Kettle Falls Archeological Collection was transferred to the Bureau of Reclamation's Grand Coulee Dam Administrative Headquarters. In 2006, the collection was transferred to the physical custody of the Confederated Tribes of the Colville Reservation, Washington.

Between 1967 and 1978, human remains and funerary objects were removed from the Freeland Site (45-FE-1). Some of the human remains were repatriated to the Confederated Tribes of the Colville Reservation, Washington, while the rest were accessioned by the National Park Service, and are included in a separate Notice of Inventory Completion. The 1,026 unassociated funerary objects are 2 projectile points, 2 lithic flakes, 516 dentalium shell beads, 241 copper beads, 1 copper pendant, 1 copper plate, 14 copper fragments, 71 pieces of verdigris (copper with a copper sulfate patina), 1 iron axe head, 1 shell, 52 pieces of plant fiber cordage, 1 piece of cordage with non-human hair and leather, 2 pieces of cordage with leather, 107 leather strips, 4 scraps of leather hide, 1 leather knot, 4 pieces of non-human hair, 2 peach pits, 2 lots of quartzite debris, and 1 piece of cedar wood.

The Freeland site is a Native American burial ground dating to the early historic period based upon the nature of associated funerary objects and the condition and preservation of the skeletal elements. The Colville and Lakes Tribes were decimated by smallpox soon after 1800, and the Freeland site has been interpreted as an “epidemic burial ground.”

In 1971, 1972 and 1978, fragmentary human remains and funerary objects were removed from the Ksunku site (45-FE-45), on the north end of Hayes Island. Stratigraphic evidence indicates that these remains date to approximately 2,500 years B.P. Some of the human remains were repatriated to the Confederated Tribes of the Colville Reservation, Washington, while the rest were accessioned by the National Park Service, and are included in a separate Notice of Inventory Completion. The 83 unassociated funerary objects are 48 flakes, 4 pieces of incised bone, 1 charcoal sample, 2 non-human teeth, 4 quartzite knives, 2 lithic cores, 2 quartzite slabs, 1 scraper, 1 cobble spall hammer, 1 argillite perforator, 1 denticulate, 1 lot of obsidian debris, and 15 pieces of non-human bone.

In 1972, human remains and funerary objects were removed from an eroding burial at the Nancy Creek Site (45-FE-16), described as “an aboriginal camp, burial, and historic site.” The human remains were repatriated to the Colville Tribes of the Colville Reservation, Washington. The two unassociated funerary objects are one steatite (soapstone) pipe fragment and one unidentified animal claw.

In 1972 and 1974, human remains and funerary objects were removed from the Chaudiere Site (45-FE-47), a late prehistoric period site. The human remains were repatriated to the Colville Tribe of the Colville Reservation, Washington. The 78 unassociated funerary objects are 5 projectile points, 5 stone knives, 6 choppers, 4 scrapers, 3 stone hammers, 2 charred wood samples, 1 charcoal sample, 1 botanical sample (pine, chokecherry and hazelnut seeds), 27 lithic flakes, 1 core, 2 slate pendants, 5 beaver incisors, 1 bone blanket pin or needle, 1 biface, 1 graver, 1 shaft straightener, 2 copper pendants, 2 pieces of ochre, 1 celt, 1 preform, 1 incised bird bone gaming piece, 1 antler digging stick handle, and 4 antler wedges.

In 1974, human remains and funerary objects were removed from the Sherman Creek Site (45-FE-51), a pit house village and extensive prehistoric cemetery exceeding 1,000 years in antiquity. Some of the human remains were repatriated to the Confederated Tribes of the Colville Reservation, Washington, while the rest were accessioned by the National Park Service, and are included in a separate Notice of Inventory Completion. The 1,306 unassociated funerary objects are 21 quartzite knives, 42 quartzite knife blanks, 2 lithic flakes, 2 partial bone needles, 1,219 glass beads, 1 botanical sample, 1 clay pipe stem fragment, 1 dentalium shell ornament, 1 chopper, 8 incised bird bones, 2 granite net weights, 2 pieces of a bone digging stick handle, 1 wood button, 1 copper button, and 2 incised bone digging stick handles.

In 1974, human remains and funerary objects were removed from the Kwilkin Site (45-ST-98), a late prehistoric period site. The human remains were repatriated to the Confederated Tribes of the Colville Reservation, Washington. The five unassociated funerary objects are five lithic flakes.

In 1974 and 1976, human remains and funerary objects were removed from the Shonitkwu site (45-FE-44), a prehistoric and historic archeological site on Hayes Island. The human remains were repatriated to the Colville Tribes of the Colville Reservation, Washington. The 80 unassociated funerary objects are 5 pieces of charred wood from a burial container, 1 botanical sample, 1 cobble hammer, 25 lithic flakes, 5 projectile points or point fragments, 4 scrapers, 9 stone knives, 2 bifaces, 4 cores, 3 choppers, 1 tubular stone pipe, 2 bird bones, 1 beaver incisor, 3 pieces of iron, 1 iron and wood artifact with a burnt “X”, 1 copper bead on a piece of cordage, 1 piece of cordage, 1 antler digging stick handle, 5 antler fragments, 1 iron sword blade, 1 quartz core or scraper, 1 quartzite perforator, 1 argillite cobble spall, and 1 quartzite slab.

In 1976, human remains and one funerary object were removed from the Ilthkoyape Site (45-FE-46), a prehistoric pit house village located on the northwest corner of Hayes Island. The human remains were repatriated to the Confederated Tribes of the Colville Reservation, Washington. The one unassociated funerary object is a granite shaft smoother.

In 1976, human remains and funerary objects were removed from the Atslukstsin site (45-ST-45), a late prehistoric/historic site. The human remains were repatriated to the Confederated Tribes of the Colville Reservation, Washington. The 46 unassociated funerary objects are 13 lithic flakes, 2 scrapers, 3 bifaces, 25 dentalium shell beads, 1 quartzite knife, 1 glass button with a metal loop fragment, and 1 mussel shell.

In 1977, human remains and funerary objects were removed from the vicinity of St. Paul's Mission (45-ST-95). The area features prehistoric archeological sites with burials, the mission and an historical, contact-period cemetery. The human remains were repatriated to the Confederated Tribes of the Colville Reservation, Washington. The two unassociated objects are one projectile point and one quartzite knife.

Archeological analysis of the sites, anthropological research, ethnohistorical studies, and tribal oral traditions demonstrate by a preponderance of the evidence that the Native American human remains and funerary objects represent Plateau Culture Area, Interior Salish speakers who have continuously occupied the Columbia River drainage for thousands of years. The ten sites are within the judicially established aboriginal territory of the Confederated Tribes of the Colville Reservation, Washington. Members of the nearby Spokane Tribe of the Spokane Reservation are also Interior Salish speakers, but their aboriginal territory is to the east, along the Spokane River and its tributaries.

Officials of Lake Roosevelt National Recreation Area have determined that, pursuant to 25 U.S.C. 3001 (3)(B), the 2,629 cultural items described above are reasonably believed to have been placed with or near individual human remains at the time of death or later as part of the death rite or ceremony and are believed, by a preponderance of the evidence, to have been removed from a specific burial site of a Native American individual. Officials of Lake Roosevelt National Recreation Area also have determined that, pursuant to 25 U.S.C. 3001 (2), there is a relationship of shared group identity that can be reasonably traced between the unassociated funerary objects and the Confederated Tribes of the Colville Reservation, Washington.

Representatives of any other Indian tribe that believes itself to be culturally affiliated with the unassociated funerary objects should contact Deborah Bird, superintendent, Lake Roosevelt National Recreation Area, 1008 Crest Drive, Coulee Dam, WA 99116-0037, telephone (509) 633-9441, before October 3, 2008. Repatriation of the unassociated funerary objects to the Confederated Tribes of the Colville Reservation, Washington may proceed after that date if no additional claimants come forward.

Lake Roosevelt National Recreation Area is responsible for notifying the Confederated Tribes of the Colville Reservation, Washington that this notice has been published.

Dated: August 11, 2008
Sherry Hutt,
Manager, National NAGPRA Program.

[FR Doc. E8-20411 Filed 9-2-08; 8:45 am]

BILLING CODE 4312-50-S